DEPARTMENT OF THE TREASURY

Customs Service

19 CFR Parts 141 and 142

RIN 1515-AC91

Single Entry for Split Shipments

AGENCY: Customs Service, Department of the Treasury.

ACTION: Proposed rule; reopening of comment period.

SUMMARY: Customs is reopening the period of time within which comments may be submitted in response to the proposed rule providing for a single entry for split shipments, which was published in the Federal Register (66 FR 57688) on November 16, 2001. Specifically, the proposed rule would amend the Customs Regulations to allow an importer of record, under certain conditions, to submit a single entry to cover multiple portions of a single shipment which was split by the carrier, and which arrives in the United States separately. The proposed amendments would implement statutory changes made to the merchandise entry laws by the Tariff Suspension and Trade Act of 2000.

DATES: Comments must be received on or before February 14, 2002.

ADDRESSES: Written comments may be addressed to and inspected at the Regulations Branch, U.S. Customs Service, 1300 Pennsylvania Avenue, NW., 3rd Floor, Washington, DC 20229.

FOR FURTHER INFORMATION CONTACT: Russell Berger, Regulations Branch, (202-927-1605).

SUPPLEMENTARY INFORMATION:

Background

Section 1460 of Public Law 106-476, popularly known as the Tariff Suspension and Trade Act of 2000, amended section 1484 of the Tariff Act of 1930 (19 U.S.C. 1484), in pertinent part, by adding a new paragraph (j)(2) in order to provide for a single entry in the case of a shipment which is split at the initiative of the carrier and which arrives in the United States separately.

To implement section 1484(j)(2), by a document published in the Federal Register (66 57688) on November 16, 2001, Customs proposed to amend the Customs Regulations to allow an importer of record, under certain conditions, to submit a single entry to cover multiple portions of a single shipment which is divided by the carrier into different parts which arrive in the United States at different times, often days apart.

Comments on the proposed rulemaking were to have been received on or before January 15, 2002. Customs has, however, received a request from a Customs broker to extend this period, the broker basically stating that it needed additional time in order to formulate its concerns and make appropriate comments. Customs believes, under the circumstances, that this request has merit. Accordingly, the period of time for the submission of comments is being reopened until February 14, 2002, as indicated above. It should be noted that no further extension of the comment period beyond this additional period will be granted.

Dated: January 15, 2002.
Douglas M. Browning,
Acting Assistant Commissioner, Office of Regulations and Rulings.

[FR Doc. 02-1602 Filed 1-22-02; 8:45 am]

BILLING CODE 4820-02-P